DEPARTMENT OF COMMERCE

International Trade Administration

[A-475-826]

Certain Cut-To-Length Carbon-Quality Steel Plate From Italy: Rescission of Antidumping Duty Administrative Review

AGENCY: Import Administration, International Trade Administration, Department of Commerce.

ACTION: Notice of rescission of antidumping duty administrative review.

SUMMARY: On March 22, 2001, the Department of Commerce (the Department) initiated an administrative review of the antidumping duty order on certain cut-to-length carbon-quality steel plate from Italy, for the period July 29, 1999, through January 31, 2001, pursuant to a request made by Bethlehem Steel Corporation, U.S. Steel Group, a unit of USX Corporation, Ispat Inland Inc., National Steel Corporation, and LTV Steel Company, Inc., (collectively petitioners) and Palini & Bertoli S.p.A. (Palini) on February 28, 2001 (66 FR 16037, 16038). In accordance with 19 CFR 351.213(d)(1), the Department is rescinding this administrative review because the producer, Palini, and petitioners have withdrawn their requests for an administrative review in a timely manner.

EFFECTIVE DATE: May 7, 2001.

FOR FURTHER INFORMATION CONTACT: Maisha Cryor or Zev Primor, AD/CVD Enforcement, Office 4, Group II, Import Administration, International Trade Administration, U.S. Department of Commerce, 14th Street and Constitution Avenue, NW., Washington, DC 20230; telephone: (202) 482-5831 or (202) 482-4114, respectively.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to the regulations at 19 CFR part 351 (2000).

Background

On February 14, 2001, the Department published a notice of opportunity to request an administrative review of the antidumping duty order on certain cut-to-length carbon-quality steel plate from Italy (66 FR 10269, 10270). On March 22, 2001, the Department initiated an administrative review for the period July 29, 1999, through January 31, 2001, pursuant to requests made by petitioners and Palini on February 28, 2001 (66 FR 16037, 16038). On March 27, 2001, Palini withdrew its request that the Department conduct an administrative review. On April 25, 2001, petitioners withdrew their request that the Department conduct an administrative review.

Rescission of Review

Section 351.213(d)(1) of the Department's regulations provides that a party that requests an administrative review may withdraw the request within 90 days after the date of publication of the notice of initiation of the requested administrative review. The Department is rescinding this review because the requesting parties, petitioners and Palini, have withdrawn their requests for an administrative review within the 90 day time limit and no other interested parties have requested a review.

The notice is in accordance with section 777(i)(1) of the Act and 19 CFR 351.213(d)(4).

Dated: May 1, 2001.
Holly A. Kuga,
Acting Deputy Assistant Secretary for Import Administration.

[FR Doc. 01-11436 Filed 5-4-01; 8:45 am]

BILLING CODE 3510-DS-P